DEPARTMENT OF THE TREASURY

Internal Revenue Service

26 CFR Part 1

[REG-130302-10]

RIN 1545-BJ69

Reporting of Specified Foreign Financial Assets; Correction

AGENCY: Internal Revenue Service (IRS).

ACTION: Correction notice.

SUMMARY: This document contains corrections to a notice of proposed rulemaking (REG-130302-10), which was published in the Federal Register on Monday, December 19, 2011 (76 FR 78594), relating to the reporting of specified foreign financial assets.

DATES: Effective Date: December 19, 2011.

FOR FURTHER INFORMATION CONTACT: Joseph S. Henderson (202) 622-3880 (not a toll-free number).

SUPPLEMENTARY INFORMATION:

Background

The notice of proposed rulemaking that is the subject of these corrections are under section 6038 of the Internal Revenue Code.

Need for Correction

As published, the notice of proposed rulemaking (REG-130302-10), contains errors which may prove to be misleading and are in need of clarification.

Correction of Publication

Accordingly, the publication of the notice of proposed rulemaking (REG-130302-10), which was the subject of FR Doc. 2011-32254, is corrected as follows:

1. On page 78594, column 2 in the preamble, under the caption FOR FURTHER INFORMATION CONTACT, the language “Concerning the proposed regulations, Joseph S. Henderson, (202) 622-3880; concerning submission of comments and/or requests for a hearing, Richard.A.Hurst@irscounsel.treas.gov, (202) 622-7180 (not a toll-free numbers).” Is corrected to read “Concerning the proposed regulations, Joseph S. Henderson, (202) 622-3880; concerning submission of comments and/or requests for a hearing, Oluwafunmilayo (Funmi) Taylor, at (202) 622-7180 (not toll-free numbers).”.

2. On page 78596, column 1, in the preamble, under the caption “Explanation of Provisions”, paragraph B. 2., line three, the language “or executor is a bank, financial” is corrected to read “is a bank, financial”.

3. On page 78596, column 1, in the preamble, under the caption “Explanation of Provisions”, paragraph B.2., the fourth line from the bottom of the first full paragraph, the language “under sections 671 through 679 and the” is corrected to read “under sections 671 through 678 and the”.

Guy R. Traynor,
Federal Register Liaison, Legal Processing Division, Publications and Regulations Br. (Procedure and Administration)

[FR Doc. 2012-3904 Filed 2-21-12; 8:45 am]

BILLING CODE 4830-01-P